DEPARTMENT OF COMMERCE

National Oceanic and Atmospheric Administration

[RTID 0648-XF491]

Issuance of Biological Opinion

AGENCY: National Marine Fisheries Service (NMFS), National Oceanic and Atmospheric Administration (NOAA), Commerce.

ACTION: Notice of issuance.

SUMMARY: In accordance with the statute of limitations provision in title 41 of the Fixing America's Surface Transportation Act (FAST-41) NMFS is providing this notification, upon request by the project sponsor (8 Star Alaska, LLC), of our issuance of a biological opinion for the Alaska Liquefied Natural Gas Project. We issued this biological opinion under the Endangered Species Act (ESA).

ADDRESSES: The biological opinion listed in this notice is available online at https://www.fisheries.noaa.gov/resource/document/biological-opinion-federal-energy-regulatory-commission-alaska-liquefied-natural.

FOR FURTHER INFORMATION CONTACT: Anne Marie Eich, NMFS Alaska Region, 901-206-4342, AnneMarie.Eich@noaa.gov.

SUPPLEMENTARY INFORMATION: Under FAST-41 (42 U.S.C. 4370m et seq., as amended), the statute of limitations provision (42 U.S.C. 4370m-6(a)(1)) requires that claims challenging any authorization issued by a Federal agency for a FAST-41 covered project must be filed within 2 years of the date on which notice of the authorization is published in the Federal Register. The provision is intended to provide certainty about the status of legal claims concerning a covered project by establishing a maximum time after which legal proceedings cannot be initiated. Building on the goal of FAST-41 to increase transparency in Federal decision-making, publication in the Federal Register puts potential litigants on notice that an authorization is subject to judicial review and the statute of limitations has begun.

We are, therefore, providing notice of our issuance of a biological opinion in accordance with section 7 of the ESA of 1973, as amended (16 U.S.C. 1531 et seq.). This will be done when a project sponsor or the lead action agency requests public notice. The biological opinion is a final agency action under the ESA and an authorization under FAST-41 (42 U.S.C. 4370m(3)). Publication of this notice serves as the initiation of the 2-year statute of limitations for this action.

Availability of Documents

You may view the biological opinion via the NMFS website (see ADDRESSES).

Authority

We issue this notice under the authority of title 41 of the Fixing America's Surface Transportation Act (FAST-41) (42 U.S.C. 4370m et seq., as amended).

Dated: January 27, 2026.
Kimberly Damon-Randall,
Director, Office of Protected Resources, National Marine Fisheries Service.

[FR Doc. 2026-01774 Filed 1-28-26; 8:45 am]

BILLING CODE 3510-22-P